DEPARTMENT OF ENERGY

Federal Energy Regulatory Commission

[Docket No. CP06-428-000]

Panhandle Eastern Pipeline Company, LP; Notice of Availability of the Environmental Assessment for the Proposed Tuscola East Replacement Project

March 7, 2007.

The staff of the Federal Energy Regulatory Commission (FERC or Commission) has prepared an environmental assessment (EA) on the natural gas pipeline facilities proposed by Panhandle Eastern Pipeline Company, LP (Panhandle) in the above-referenced docket.

The EA was prepared to satisfy the requirements of the National Environmental Policy Act. The staff concludes that approval of the proposed project, with appropriate mitigating measures, would not constitute a major federal action significantly affecting the quality of the human environment.

The EA assesses the potential environmental effects of the construction and operation of the proposed project. Panhandle proposes to replace a total of 31.3 miles of pipeline consisting of three segments and abandoning in place or by removal the existing 29.4 miles of pipelines that correspond with the new replacement lines. Specifically, the project includes:

• Tuscola 100-Line (Douglas County, IL)—Replacing 6.7 miles of existing 100-Line 20-inch diameter pipeline with 36-inch diameter pipeline, designating the new pipeline as the 500-Line, and installing a new pig launcher/receiver;

• Tuscola 200-Line (Douglas County, IL)—Replacing 1.9 miles of the existing 200-Line 36-inch diameter pipeline with 20-inch diameter pipeline (the 1.9 miles of 36-inch pipeline replaced would be used for the new 500-Line);

• Montezuma 100-Line (Parke County, IN)—Replacing 6.6 miles of the existing 100-Line 20-inch diameter pipeline with 36-inch diameter pipeline, designating the new pipeline as the 500-Line, and installing a new pig launcher/receiver; and

• Zionsville 200-Line (Marion, Boone, and Hamilton Counties, IN)—Replacing 17.9 miles of the existing 200-Line 24-inch diameter pipeline with 30-inch diameter pipeline, designating the new pipeline as the 500-Line, and installing a new pig launcher/receiver and a new mainline valve (MLV).

Due to the age of Panhandle's existing line and the U.S. Department of Transportation's Integrity Management Plan regulations, Panhandle reduced the operating pressure on one line by 20 percent in 2004. Additional measures to mitigate risk for High Consequence Areas must be implemented by end of 2011. Panhandle's project purpose is to restore long-haul transportation capacity from Tuscola heading east to Michigan by replacing the existing diameter pipeline with larger diameter pipeline.

The EA has been placed in the public files of the FERC. A limited number of copies of the EA are available for distribution and public inspection at: Federal Energy Regulatory Commission, Public Reference Room, 888 First Street, NE., Room 2A, Washington, DC 20426, (202) 502-8371.

Copies of the EA have been mailed to Federal, State and local agencies, public interest groups, interested individuals, newspapers, and parties to this proceeding.

Any person wishing to comment on the EA may do so. To ensure consideration prior to a Commission decision on the proposal, it is important that we receive your comments before the date specified below.

Please note that the Commission strongly encourages electronic filing of any comments or interventions or protests to this proceeding. See 18 CFR 385.2001(a)(1)(iii) and the instructions on the Commission's Web site at http://www.ferc.gov under the “e-Filing” link and the link to the User's Guide. Before you can file comments you will need to create a free account which can be created by clicking on “Sign-up.”

If you are filing written comments, please carefully follow these instructions to ensure that your comments are received in time and properly recorded:

• Send an original and two copies of your comments to: Secretary, Federal Energy Regulatory Commission, 888 First St., NE., Room 1A, Washington, DC 20426;

• Label one copy of the comments for the attention of the Gas Branch 2, PJ11.2 Reference Docket No. CP06-428-000; and

• Mail your comments so that they will be received in Washington, DC on or before April 6, 2006.

Comments will be considered by the Commission but will not serve to make the commentor a party to the proceeding. Any person seeking to become a party to the proceeding must file a motion to intervene pursuant to Rule 214 of the Commission's Rules of Practice and Procedures (18 CFR 385.214).¹ Only intervenors have the right to seek rehearing of the Commission's decision.

¹ Interventions may also be filed electronically via the Internet in lieu of paper. See the previous discussion on filing comments electronically.

Affected landowners and parties with environmental concerns may be granted intervenor status upon showing good cause by stating that they have a clear and direct interest in this proceeding which would not be adequately represented by any other parties. You do not need intervenor status to have your comments considered.

Additional information about the project is available from the Commission's Office of External Affairs, at 1-866-208-FERC or on the FERC Internet Web site (http://www.ferc.gov) using the eLibrary link. Click on the eLibrary link, click on “General Search” and enter the docket number excluding the last three digits in the Docket Number field. Be sure you have selected an appropriate date range. For assistance, please contact FERC Online Support at FercOnlineSupport@ferc.gov or toll free at 1-866-208-3676, or for TTY, contact (202)502-8659. The eLibrary link also provides access to the texts of formal documents issued by the Commission, such as orders, notices, and rulemakings.

In addition, the Commission now offers a free service called eSubscription which allows you to keep track of all formal issuances and submittals in specific dockets. This can reduce the amount of time you spend researching proceedings by automatically providing you with notification of these filings, document summaries and direct links to the documents. Go to http://www.ferc.gov/esubscribenow.htm.

Philis J. Posey,
Acting Secretary.

[FR Doc. E7-4471 Filed 3-12-07; 8:45 am]

BILLING CODE 6717-01-P